DEPARTMENT OF HEALTH AND HUMAN SERVICES

National Committee on Vital and Health Statistics Meeting

AGENCY: Centers for Disease Control and Prevention, HHS.

ACTION: Notice of meeting.

SUMMARY: Pursuant to the Federal Advisory Committee Act, the Department of Health and Human Services (HHS) announces the following advisory committee meeting. This meeting is open to the public. The public is welcome to obtain the link to attend this meeting by following the instructions posted on the Committee website: https://ncvhs.hhs.gov/meetings/full-committee-meeting-13/.

NAME: National Committee on Vital and Health Statistics (NCVHS) Meeting

DATES: Wednesday, June 14, 2023: 10:00 a.m.-4:30 p.m. EDT.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Purpose: As outlined in its Charter, the National Committee on Vital and Health Statistics assists and advises the Secretary of HHS on health data, data standards, statistics, privacy, national health information policy, and the Department's strategy to best address those issues. Under the Health Insurance Portability and Accountability Act of 1996 (HIPAA),¹ NCVHS advises the Secretary on administrative simplification standards, including those for privacy, security, adoption and implementation of transaction standards, unique identifiers, code sets, and operating rules adopted under the Patient Protection and Affordable Care Act (ACA).²

¹ Public Law 104-191, 110 Stat. 1936 (Aug 21, 1996), available at https://www.congress.gov/104/plaws/publ191/PLAW-104publ191.pdf.

² Public Law 111-148, 124 Stat.119, available at https://www.congress.gov/111/plaws/publ148/PLAW-111publ148.pdf.

The purpose of this meeting is to provide a public forum for the Committee to consider what comments it will make on the April 17, 2023, Notice of Proposed Rulemaking (NPRM) “HIPAA Privacy Rule to Support Reproductive Health Care Privacy” which is available at https://www.federalregister.gov/documents/2023/04/17/2023-07517/hipaa-privacy-rule-to-support-reproductive-health-care-privacy.

In addition, the Committee will consider what recommendations it will make in response to updated and new operating rules proposed by the Council for Affordable Quality Health Care (CAQH), Committee on Operating Rules for Information Exchange (CORE), to support adopted HIPAA standards, and an updated version of the X12 standard for claims and electronic remittance advice transactions (Version 8020) proposed by X12. The Committee developed these recommendations in response to formal proposals received from CAQH CORE ³ and X12 ⁴ respectively, informed by a Request for Comment (RFC) and two-day hearing held January 18-19, 2023.⁵ Details on the recent RFC and hearings are available on the Committee's website here: https://ncvhs.hhs.gov/meetings/standards-subcommittee-hearing/.

³ Letter from CAQH CORE to NCVHS, May 23, 2022: https://ncvhs.hhs.gov/wp-content/uploads/2022/09/CAQH-CORE-Board-Letter-to-NCVHS-re-New-Updated-OR-052322-508.pdf.

⁴ Letter from X12 to NCVHS, June 7, 2022: https://ncvhs.hhs.gov/wp-content/uploads/2022/09/X12-Request-for-review-of-8020-transactions-060822-to-NCVHS-508.pdf.

⁵ See, Subcommittee on Standards, National Committee on Vital and Health Statistics, Hearing on Requests for New and Updated Transaction Standards and Operating Rules, available at https://ncvhs.hhs.gov/meetings/standards-subcommittee-hearing/.

The Committee will reserve time on the agenda for public comment. Meeting times and topics are subject to change. Please refer to the agenda posted on the NCVHS website for updates: https://ncvhs.hhs.gov/meetings/full-committee-meeting-13/.

Sharon Arnold,
Associate Deputy Assistant Secretary, Office of Science and Data Policy, Office of the Assistant Secretary for Planning and Evaluation.

[FR Doc. 2023-11207 Filed 5-24-23; 8:45 am]

BILLING CODE 4150-05-P